DEPARTMENT OF HEALTH AND HUMAN SERVICES

Administration for Children and Families

Office of Planning, Research and Evaluation; Grant Awards to Multiple Organizations

AGENCY: Office of Planning, Research and Evaluation, ACF, DHHS.

ACTION: Award announcement.

SUMMARY: Notice is hereby given that noncompetitive grant awards are being made to multiple organizations to conduct demonstration and implement service provision projects on a wide range of issues relating to social services. The number of grants is 114 for a total amount of $20,083,653. These noncompetitive awards were recommended by the Congress and were listed in the FY 2005 Senate-House conference agreement.

Names of organizations receiving awards | Amounts of awards
A+ for Abstinence, Waynesboro, PA for abstinence education and related services | $44,640
AIDSCARE, Inc., Chicago, IL for social services and related programs at its facilities for people living with AIDS | 248,000
Americana Community Center, Inc., Louisville, KY, for community involvement training | 18,848
Andrus Children's Center, Yonkers, NY for the Yonkers Early Childhood Initiative | 49,600
Anna Maria College, Paxton, MA, for program development at the Molly Bish Center for the Protection of Children and the Elderly | 99,200
Annandale Christian Community for Action, Annandale, VA—Child Development Center | 49,600
Arrowhead Economic Opportunity Agency, Inc., Virginia, MN for the Family to Family community-based mentoring program to assist low-income families | 595,200
Atlanta Interfaith AIDS Network, Atlanta, GA for the Common Ground day program for adults living with HIV/AIDS | 39,680
Best Friends and Best Men Program at the Indian River School District, Sebastian, FL | 49,600
Birth Choice Pregnancy Centers, Mission Viejo, CA to support counseling and medical services at three pregnancy centers in Orange County, CA | 148,800
Breakaway Ministries, Gadsden, AL, for the Silver Ring Thing Program for abstinence education and related services | 79,360
Catholic Social Services, The Bridge, Wilkes Barre, PA for abstinence education and related services | 45,632
Cesar Chavez Center, Davenport, IA to assist the Hispanic community in accessing social services and community resources | 99,200
Child and Family Network Centers, Alexandria, VA—First Step Program | 248,000
Children's Home Society of Idaho, Boise, ID—Idaho Children's Home | 198,400
Children's Rights Council, Inc., Hyattsville, MD, for Safe Haven Access sites in Stark County, Ohio | 74,398
ChildServ, Chicago, IL—Family Service Center in Lake County | 496,000
Christian Family Ministries, Inc., Joliet, IL—Lamb's Fold Women's Center | 49,600
City Connect Detroit, Detroit, MI for the Detroit Data Partnership, for data collection and integration and development of data sharing partnerships to support design, implementation and measurement of social and economic development programs | 198,400
City of Chester, Bureau of Health, SABER Project, Chester, PA for abstinence education and related services | 104,160
Coalition to End Family Violence, Oxnard, CA for family violence prevention and treatment and other social services for youth and families | 198,400
Community Empowerment Association, Pittsburgh, PA to provide community re-entry programs | 99,200
Community Options, Inc., Princeton, NJ, for the Dr. York Development Project | 89,280
Community Services of Stark County, Inc., Canton, OH—“Stark STRONG” (Stark Standing Together Reaching Ohio's New Generation's) | 297,600
Concerned Citizens Community Creation Center, Pittsburgh, PA for education, counseling, crisis intervention and other services for at-risk families | 238,080
Connecticut Council of Family Service Agencies, Wethersfield, CT for the Empowering People for Success welfare-to-work initiative | 396,800
Covenant House Alaska to expand services to runaway and homeless youth in the Anchorage, AK area | 297,600
Covenant House Pennsylvania, Philadelphia, PA to provide support services to homeless and runaway youth | 24,800
Daily Bread, Melbourne, FL to provide nutritional, mental health and counseling referral services to the working homeless population | 49,600
Darkness to Light in Charleston, SC to develop an online training and certification program to prevent child sexual abuse | 445,031
Diakon Lutheran Social Ministries, Mechanicsburg, PA for abstinence education and related services | 134,912
Diakon Lutheran Social Ministries, Topton, PA for abstinence education and related services | 94,240
East Harlem Building for the Community, Inc., New York, NY for its Women's Network to provide counseling, referrals and other services related to domestic violence | 99,200
Eckerd Youth Alternatives, Clearwater, FL, for Transition to Independence—An Expansion of a Foster Care Pilot Demonstration project serving youth aging out of the foster care system | 992,000
EDGE Outreach, Louisville, KY, for community outreach programs at The Mission House | 29,760
Family First Support Center, Waukegan, IL—Educational Assessment Program | 198,400
Food for Life, Glenside, PA to implement a pilot project to monitor children of prisoners and parolees in PA | 198,400
Fred Leroy Health and Wellness Center, Omaha, Nebraska, to provide health services to Native Americans in the Northern Ponca Service Unit | 248,000
Friends Association, West Chester, PA, to support adoption and foster child services | 49,600
Generations of Hope, Rantoul, IL—to replicate the program which is a unique community setting enriching the lives of foster children and the elderly by entwining their daily lives | 124,000
George Washington Carver Community Center, Project A.C.E., Norristown, PA for abstinence education and related services | 85,312
Girl Scout Totem Council in Seattle, WA, to expand the Fostering A Future program | 99,200
Good News Doctor Foundation and the International Child Development Resources Center, Inc., Melbourne, FL to provide care and to develop best practices for children suffering from autism | 148,800
Greater Calvary Community Development Corporation, Erie, PA for abstinence education and related services | 49,600
Greater Philadelphia Urban Affairs Coalition, Philadelphia, PA, to provide housing and mortgage assistance, as part of an initiative to stabilize a community | 992,000
Growth & Development Services, Inc, New York, NY, for support services to at-risk families in Hispanic neighborhoods | 49,600
Guidance Center, project RAPPORT, Ridgeway, PA for abstinence education and related services | 73,408
Harbor House of Louisville, Inc., Louisville, KY, for a Training and Development Center for individuals with developmental disabilities | 49,600
Heart Beat, Millerstown, PA for abstinence education and related services | 50,592
Helping Hands Unlimited, Brooklyn, NY for a transitional supportive housing program for women | 297,600
HERO Family Resource Center, Greensboro, AL to reduce and prevent teenage pregnancies through the “Bright Beginnings” program | 49,600
Hispanic Counseling Center, Hempstead, NY for domestic violence prevention and intervention programs | 138,880
Horizons for Homeless Children, Boston, MA, for mentoring, educational, and social development programs | 124,000
Iowa Mentor Center, Sioux City, IA, for programmatic functions and equipment | 29,760
Keystone Central School District, Central Mountain Middle School East, Mill Hall, PA for abstinence education and related services | 78,368
Keystone Economic Development Corporation, Johnstown, PA for abstinence education and related services | 87,296
L.V.C.P.T.P., St Luke's Health Network, CHOICE program, Bethlehem, PA for abstinence education and related services | 91,264
Lackawanna Trail School District, Factoryville, PA for abstinence education and related services | 73,408
Lady B Ranch, Apple Valley, CA, for a Therapeutic Horseback Riding Program | 148,800
LaSalle University, Philadelphia PA for abstinence education and related services | 111,104
Life House, Duluth, MN for transitional and supportive housing facilities for youth that are homeless, have mental health or substance abuse problems or are otherwise in need of such services | 198,400
Mary's Family, Orlean, VA | 74,400
Mercy Hospital of Pittsburgh, Pittsburgh, PA for abstinence education and related services | 110,112
Monterey County Probation Department, Salinas, CA for a gang prevention and intervention program | 1,289,600
National Energy Assistance Directors Association, Washington, DC for studies regarding low-income home energy assistance | 198,400
Neighborhood United Against Drugs, Philadelphia, PA for abstinence education and related services | 134,912
Network for Family Life Education, Piscataway, NJ for the Teen-to-Teen Education Project to encourage teens to make responsible choices about sexual health | 297,600
New Brighton School District, New Brighton, PA for abstinence education and related services | 22,816
Nexus Diversified Community Services in Minneapolis, MN to treat developmentally delayed adolescent males | 992,000
Nueva Esperanza, Philadelphia, PA for abstinence education and related services | 71,424
Ohel Children's Home and Family Services, Brooklyn, NY for school-based programs to prevent substance abuse, violence, child abuse and related problems | 337,280
Ohio Educational Television Stations (OETS), Toledo, OH for the Ohio Cares project | 198,400
Operation Warm, Chadds Ford, PA—Pennsylvania Youth Coat Distribution Project | 124,000
Orange County, Orlando, FL, for Harbor House to provide services to victims of abusive relationships | 148,800
Parents Anonymous, Claremont, CA to establish, operate, publicize and maintain a national parent helpline, toll free, 24 hours a day, 7 days a week, for parents throughout the US | 31,744
Partners for Healthier Tomorrows, Ephrata, PA for abstinence education and related services | 49,600
Partners in Family and Community Development, Athens, PA for abstinence education and related services | 71,424
Perseus House, Inc., Erie, PA for abstinence education and related services | 49,600
Potter County Court of Common Pleas, Coudersport, PA to implement the Youth/Community project to break the cyclical effect of the dysfunctional family | 99,200
Potter County Human Services, Roulette, PA for abstinence education and related services | 49,600
Providence House, Shreveport, LA—Child Development Center | 164,672
Puerto Rico Administration for Children and Families, San Juan, PR for implementation of automated information systems for child welfare and other programs | 595,200
Rape and Victim Assistance Center of Schuykill County, Pottsville, PA for abstinence education and related services | 70,432
Real Alternatives, Harrisburg, PA, for counseling and pregnancy support services | 148,800
Real Commitment, Gettysburg, PA for abstinence education and related services | 81,344
Resources for Human Development, Inc., Philadelphia, PA to support an outreach project organizing groups focusing on social services to low-income families | 24,800
School District of Lancaster, Project IMPACT, Lancaster, PA for abstinence education and related services | 100,192
School District of Philadelphia, Philadelphia, PA for abstinence education and related services | 101,184
Shaw Jewish Community Center of Akron, OH | 198,400
Shepherd's Maternity House Inc., East Stroudsburg, PA for abstinence education and related services | 49,600
Silver Ring Thing South Carolina, Columbia, SC to establish an innovative abstinence education program | 99,200
Silver Ring Thing, Sewickley, PA for abstinence education | 74,400
Sisters of Charity Foundation of Canton, OH—Quality Child Care Initiative | 99,200
T.O.P.S. FOR YOU, Inc., Brooklyn, NY for services to children and families at the Garrity Post Daycare Center | 396,800
To Our Children's Future with Health, Inc., Philadelphia, PA for abstinence education and related services | 108,128
Tri County Women's Network, New Carlisle, OH for programs serving pregnant women in crisis who choose to keep their babies learn to become self-sufficient | 148,800
Tuscarora Intermediate Unit, McVeytown, PA for abstinence education and related services | 83,328
Uhlich Children's Advantage Network, Chicago, IL for programs at its Family Resource Center in Riverdale to increase self-sufficiency, improve parenting skills and reduce family violence among teenage and young adult parents | 148,800
United Christian Ministries Inc., Osceola, PA for social services focusing on homeless families | 74,400
Urban Family Council, Philadelphia, PA for abstinence education and related services | 124,992
Victim Resource Center Inc., Franklin, PA for abstinence education and related services | 40,672
Visitation Home, Inc., Yardville, NJ, to support services for developmentally disabled residents | 99,200
Volunteers of America/Alaska in Anchorage, AK, in cooperation with the State of Alaska Dept. of Health and Human Services, for a respite camp for children being raised by grandparents in Alaska | 198,400
Warren Coalition, Front Royal, VA—Family Care Connections | 148,800
Washington Hospital Teen Outreach, Academy for Adolescent Health, Washington, PA for abstinence education and related services | 134,912
West Central Wisconsin Community Action Agency, Glenwood City, WI for the Western Wisconsin JumpStart Replication Project to assist TANF households in purchasing reliable automobiles to help them secure and maintain employment | 297,600
Women's Care Center of Erie County, Inc. to support prenatal medical services to an at-risk population | 99,200
Women's Care Center of Erie County, Inc., Abstinence Advantage Program, Erie, PA for abstinence education and related services | 134,912
Women's Haven of Tarrant County, Inc., Fort Worth, TX—services at an emergency domestic violence shelter and for a 24-hour emergency hotline | 54,560
YMCA of Metropolitan Fort Worth-McDonald Community Branch, Fort Worth, TX—Together Reaching Unity Concerning Everyone (TRUCE) program | 173,600
York County Human Life Services, Inc. York, PA for abstinence education and related services | 49,600
Youth Crisis Center, Jacksonville, FL, for family and youth counseling | 99,200
YWCA of Bucks County, Trevose, PA to promote strong families, positive youth development and safe communities | 49,600
ZERO TO THREE, Washington, DC, for the development of multidisciplinary | 992,000
Court Teams to raise awareness and increase knowledge and skills regarding the needs of maltreated infants and toddlers and their families involved in the child welfare system to include a program in Fort Bend County, Texas

FOR FURTHER INFORMATION CONTACT: K.A. Jagannathan, Administration for Children and Families, Office of Planning, Research and Evaluation, 370 L'Enfant Promenade, SW., Washington, DC 20447, phone: 202-205-4829.

Dated: June 18, 2005.
Naomi Goldstein,
Director, Office of Planning, Research and Evaluation.

[FR Doc. 05-12431 Filed 6-22-05; 8:45 am]

BILLING CODE 4184-01-P